DEPARTMENT OF TRANSPORTATION

Federal Aviation Administration

14 CFR Part 73

[Docket No. FAA-2017-1109; Airspace Docket No. 17-ASO-22]

Proposed Amendment for Restricted Area R-4403A; Stennis Space Center, MS

AGENCY: Federal Aviation Administration (FAA), DOT.

ACTION: Notice of proposed rulemaking (NPRM).

SUMMARY: This action proposes to amend the time of designation for restricted area R-4403A, Stennis Space Center, MS, from “Intermittent, 1000 to 0300 local time, as activated by NOTAM at least 24 hours in advance,” to “Intermittent by NOTAM at least 24 hours in advance.” The National Aeronautics and Space Administration (NASA) requested the change to meet requirements of the Space Launch System (SLS) Core Stage test program.

DATES: Comments must be received on or before February 26, 2018.

ADDRESSES: Send comments on this proposal to the U.S. Department of Transportation, Docket Operations, 1200 New Jersey Avenue SE, West Building Ground Floor, Room W12-140, Washington, DC 20590; telephone: 1 (800) 647-5527, or (202) 366-9826. You must identify FAA Docket No. FAA-2017-1109 and Airspace Docket No. 17-ASO-22, at the beginning of your comments. You may also submit comments through the internet at http://www.regulations.gov. Comments on environmental and land use aspects should be directed to: Mr. David Lorance, P.E., Center Environmental Officer, Center Operations Directorate, NASA Stennis Space Center, Roy S. Estess Building 1100, Mail Code RA02, Stennis Space Center, MS 39529-6000.

FOR FURTHER INFORMATION CONTACT: Paul Gallant, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would support a change in the time of designation for restricted area R-4403A, Stennis Space Center, MS, to accommodate NASA rocket engine test activities.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2017-1109 and Airspace Docket No. 17-ASO-22) and be submitted in triplicate to the Docket Office at the address listed above. You may also submit comments through the internet at www.regulations.gov.

Commenters wishing the FAA to acknowledge receipt of their comments on this action must submit with those comments a self-addressed, stamped postcard on which the following statement is made: “Comments to FAA Docket No. FAA-2017-1109 and Airspace Docket No. 17-ASO-22.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the internet at www.regulations.gov.

You may review the public docket containing the proposal, any comments received and any final disposition in person at the Docket Office (see ADDRESSES section for address and phone number) between 9:00 a.m. and 5:00 p.m., Monday through Friday, except Federal holidays. An informal docket may also be examined during normal business hours at the office of the Operations Support Group, Eastern Service Center, Federal Aviation Administration, 1701 Columbia Ave., College Park, GA 30337.

Background

R-4403A was established by a final rule published in the Federal Register on March 29, 2016 (81 FR 17379) Docket No. 2017-0370, as part of the expansion of the former restricted area R-4403. R-4403A was designated to contain hazards associated with rocket engine testing. The current time of designation, “Intermittent, 1000 to 0300 local time, as activated by NOTAM at least 24 hours in advance,” allows for up to 17 hours of daily use. However, NASA's Space Launch System (SLS) Core Stage test program will require activation of R-4403A for periods of 24 to 48 hours which will exceed the current time designation for the restricted area.

The current boundaries and altitudes of R-4403A are sufficient to contain the hazards from hydrogen flaring profiles associated with propulsion testing and are not affected by this proposal. Additionaly, the need for on-going single rocket engine testing in R-4403A remains at approximately 20-40 times per year. On average, NASA activates R-4403A for 7 hours for each event. If technical difficulties or other conditions require, R-4403A has been activated for up to 12 hours. However, the SLS Core Stage testing program entails the simultaneous testing of four rocket engines. The flaring of hydrogen fuel will require NASA to activate R-4403A for up to 48 hours because SLS Core Stage testing cannot confine the hydrogen flare stack hazards within the existing 17-hour daily window available for R-4403A. This requirement is expected to occur 2-3 times per year.

The Proposal

The FAA proposes an amendment to 14 CFR part 73 to change the time of designation for restricted area R-4403A, Stennis Space Center, MS, from “Intermittent, 1000 to 0300 local time, as activated by NOTAM at least 24 hours in advance,” to “Intermittent by NOTAM at least 24 hours in advance.”

This change is required to provide the additional restricted area activation time needed to accommodate NASA's SLS Core Stage engine testing program. The current boundaries and designated altitude for R-4403A remain unchanged by this proposal.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subjected to an environmental analysis in accordance with FAA Order 1050.1F, “Environmental Impacts: Policies and Procedures,” prior to any FAA final regulatory action.

List of Subjects in 14 CFR Part 73

Airspace, Prohibited areas, Restricted areas.

The Proposed Amendment

In consideration of the foregoing, the Federal Aviation Administration proposes to amend 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.44 Mississippi [Amended]

2. § 73.44 is amended as follows:

* * * * *

R-4403A Stennis Space Center, MS [Amended]

By removing the words “Time of Designation. Intermittent, 1000 to 0300 local time, as activated by NOTAM at least 24 hours in advance,” and adding in their place:

Time of designation. Intermittent by NOTAM at least 24 hours in advance.

Issued in Washington, DC, on January 8, 2018.
Rodger A. Dean, Jr.,
Manager, Airspace Policy Group.

[FR Doc. 2018-00370 Filed 1-10-18; 8:45 am]

BILLING CODE 4910-13-P